DEPARTMENT OF LABOR

Employment and Training Administration

[TA-W-61,393]

Best: Artex LLC, Currently Known as Best Textiles International Ltd., Highland, IL; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 24, 2007, applicable to workers of Best: Artex LLC, Highland, Illinois. The notice was published in the Federal Register on June 7, 2007 (72 FR 31616).

At the request of the State agency, the Department reviewed the certification for workers of the subject firm. The workers are engaged in the support activities of accounting and technical services to an affiliate in West Point, Mississippi, producing dyed and bleached fabric.

New information shows that following a change in ownership in February 2007, Best: Artex LLC is currently known as Best Textiles International Ltd. Workers separated from employment at the subject firm had their wages reported under a separate unemployment insurance (UI) tax account for Best Textiles International Ltd.

Accordingly, the Department is amending this certification to show that Best: Artex LLC is currently known as Best Textiles International Ltd.

The intent of the Department's certification is to include all workers of Best: Artex LLC, currently known as Best Textiles International Ltd. who were adversely affected by a shift in production to Cambodia.

The amended notice applicable to TA-W-61,393 is hereby issued as follows:

“All workers of Best: Artex LLC, currently known as Best Textiles International Ltd., Highland, Illinois, who became totally or partially separated from employment on or after April 26, 2006, through May 24, 2009, are eligible to apply for adjustment assistance under Section 223 of the Trade Act of 1974, and are also eligible to apply for alternative trade adjustment assistance under Section 246 of the Trade Act of 1974.”

Signed at Washington, DC this 9th day of July 2008.
Linda G. Poole,
Certifying Officer, Division of Trade Adjustment Assistance.

[FR Doc. E8-16074 Filed 7-14-08; 8:45 am]

BILLING CODE 4510-FN-P